NATIONAL SCIENCE FOUNDATION

Sunshine Act Meeting

The National Science Board's External Engagement Committee's Subcommittee on Honorary Awards, pursuant to NSF regulations (45 CFR part 614), the National Science Foundation Act, as amended (42 U.S.C. 1862n-5), and the Government in the Sunshine Act (5 U.S.C. 552b), hereby gives notice of the scheduling of a teleconference for the transaction of National Science Board business, as follows:

TIME & DATE: November 17, 2020 from 3:00—4:00 p.m. EST.

PLACE: This meeting will be held by teleconference through the National Science Foundation, 2415 Eisenhower Avenue, Alexandria, VA 22314.

STATUS: Closed.

MATTERS TO BE CONSIDERED: (1) Subcommittee Chair's opening remarks; (2) Review and discuss candidates for the 2021 National Science Board Honorary Awards—the Vannevar Bush Award and the NSB Public Service Award; and subcommittee Chair's closing remarks.

CONTACT PERSON FOR MORE INFORMATION: Point of contact for this meeting is: Kyscha Slater-Williams, 2415 Eisenhower Ave., Alexandria, VA 22314, kslater@nsf.gov, (703) 292-7000.

Chris Blair,
Executive Assistant to the National Science Board Office.

[FR Doc. 2020-25273 Filed 11-12-20; 11:15 am]

BILLING CODE 7555-01-P